DEPARTMENT OF HOMELAND SECURITY

Coast Guard

[Docket No. USCG-2012-0908]

Facility Security Officer Training Requirements

AGENCY: Coast Guard, DHS.

ACTION: Notice of public meeting; request for comments.

SUMMARY: The Coast Guard announces a public meeting to receive comments on the development of a Facility Security Officer training program, with the primary focus on developing the curriculum for such a program. Section 821 of the Coast Guard Authorization Act of 2010 (Pub. L. 111-281) requires the Secretary of Homeland Security to establish comprehensive FSO training requirements, and to coordinate with the Maritime Administrator of the Department of Transportation in developing the FSO training curriculum. The purpose of the public meeting is to obtain public comment on a draft model FSO training course and other elements of the FSO training program.

DATES: A public meeting will be held on Friday, November 9, 2012 from 8:30 a.m. to 12:30 p.m. to provide an opportunity for oral comments. Seating is limited, so please RSVP as soon as possible using the method described under the ADDRESSES section below, but no later than November 2, 2012. Written comments and related material may be submitted to Coast Guard personnel specified at that meeting. Written comments may also be submitted in response to this notice by following the instructions under the ADDRESSES section below. The comment period for this notice will close on November 23, 2012. All written comments and related material submitted before or after the meeting must either be submitted to our online docket via http://www.regulations.gov on or before November 23, 2012 or reach the Docket Management Facility by that date.

ADDRESSES: The public meeting will be held at the Department of Transportation Headquarters, Oklahoma Room, 1200 New Jersey Avenue SE., Washington, DC 20590. Please note that due to building security requirements, each visitor must present two valid, government-issued photo identifications in order to gain entrance to the Department of Transportation Headquarters building. The building is accessible by taxi, public transit, and privately owned conveyance. However, public parking in the vicinity of the building is extremely limited.

This meeting is open to the public. Please note that the session may adjourn early if all business, concerns, and questions are addressed. A live video feed of the meeting will also be available via the following link: http://trial4.cdn.level3.net/USCGLivePlayer_040611.htm.

You may submit written comments identified by docket number USCG-2012-0908 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket for this notice is available on the Internet at http://www.regulations.gov under docket number USCG-2012-0908.

To RSVP for the meeting, fill out the RSVP form using the following link https://einvitations.afit.edu/inv/anim/cfm?i=123867&k=036341017D50.

FOR FURTHER INFORMATION CONTACT: If you have questions concerning the meeting, please call or email LTJG Lindsey Musselwhite, Commandant (CG-FAC-2), Coast Guard; telephone 202-372-1136, email Lindsey.A.Musselwhite@uscg.mil or LCDR José Ramírez, Commandant (CG-FAC-2), Coast Guard; telephone 202-372-1150, email Jose.L.Ramirez@uscg.mil. If you have questions on viewing or submitting material to the docket, call Ms. Renee V. Wright, Program Manager, Docket Operations, telephone 202-366-9826.

SUPPLEMENTARY INFORMATION:

Background and Purpose

The Maritime Transportation Security Act of 2002 (Pub. L. 107-295, codified at 46 U.S.C. 70101 et seq.) (MTSA) provided the Coast Guard with statutory authorities and mandates to advance the Coast Guard's maritime security mission. Pursuant to its authority under MTSA, the Coast Guard promulgated regulations in 33 CFR part 105 that apply to certain maritime facilities listed in 33 CFR 105.105. Among the requirements in 33 CFR part 105, owners and operators of regulated facilities must designate a Facility Security Officer (FSO) (33 CFR 105.200). Coast Guard regulations also set forth FSO qualifications and responsibilities (33 CFR 105.205). Under current regulations, FSOs are not required to undergo a formal training and certification process.

Section 821 of the Coast Guard Authorization Act of 2010 (Pub. L. 111-281) requires the Secretary of Homeland Security (Secretary) to establish comprehensive FSO training requirements designed to provide full security training that would lead to certification of such officers. The Coast Guard is in the process of considering a rulemaking to implement this portion of section 821.

Section 821 also requires the Secretary to coordinate with the Maritime Administrator of the Department of Transportation in developing the FSO training curriculum. The Coast Guard and the Maritime Administrator believe that a public meeting would be beneficial at this stage in the process to engage the public and obtain comments on a draft model FSO training course as well as other aspects of the FSO training program. A draft model FSO training course will be available for viewing on the Coast Guard Homeport Web site (https://homeport.uscg.mil/mtsa) as well as in the online docket two weeks prior to the meeting. Topics to be discussed at the meeting include the following:

(1) Draft model FSO training course;

(2) Computer-based training and distance learning;

(3) Provisional FSO certification;

(4) FSO continuing education;

(5) FSO refresher course;

(6) Interim policy to provide curriculum guidelines for potential FSO training course providers; and

(7) Any additional topics of concern with respect to the FSO training program, certification, and the development and provision of training.

The Coast Guard believes that a public meeting would also benefit the impacted community by providing a forum to raise relevant issues. This will further enable the Coast Guard to craft policy that takes into account public concerns.

You may view the written comments and supporting documents (if any) in the online docket by going to http://www.regulations.gov and using “USCG-2012-0908” as your search term. Locate this notice among the search results and use the filters on the left side of the page to search for specific types of documents. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate by submitting comments either orally at the meeting or in writing. If you bring written comments to the meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Services for Individuals With Disabilities

For information on facilities or services for individuals with disabilities or to request special assistance at the public meeting, contact LTJG Lindsey Musselwhite at the telephone number or email address indicated under the FOR FURTHER INFORMATION CONTACT section of this notice.

Public Meeting

The Coast Guard will hold a public meeting regarding the development of an FSO training program on Friday, November 9, 2012 from 8:30 a.m. to 12:30 p.m., at the Department of Transportation Headquarters, Oklahoma Room, 1200 New Jersey Ave SE., Washington, DC 20590. We will provide a written summary of the meeting and comments in the docket.

Authority: This notice is issued under the authority of 46 U.S.C. 70125(d) and 5 U.S.C. 552(a).

Dated: October 4, 2012.
A.E. Tucci,
Captain, U.S. Coast Guard, Chief, Office of Port and Facility Compliance (CG-FAC).

[FR Doc. 2012-25055 Filed 10-10-12; 8:45 am]

BILLING CODE 9110-04-P